DEPARTMENT OF HEALTH AND HUMAN SERVICES

National Institutes of Health

Submission for OMB Review; 30-Day Comment Request; Evaluation of the Science Education Partnership Award (SEPA) Program (OD)

SUMMARY: Under the provisions of Section 3507(a)(1)(D) of the Paperwork Reduction Act of 1995, the National Institutes of Health (NIH), has submitted to the Office of Management and Budget (OMB) a request for review and approval of the information collection listed below. This proposed information collection was previously published in the Federal Register on 06/03/2015 (Vol. 80, No. 106, Pages 31610-31611) and allowed 60 days for public comment. Zero public comments were received. The purpose of this notice is to allow an additional 30 days for public comment. The Office of Science Education/SEPA, National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30 days of the date of this publication.

FOR FURTHER INFORMATION CONTACT: To obtain a copy of the data collection plans and instruments or request more information on the proposed project contact: Tony Beck, Ph.D., Office of Science Education/SEPA, Office of Research Infrastructure Programs, Division of Program Coordination, Planning, and Strategic Initiatives, Office of the Director, National Institutes of Health, 6701 Democracy Boulevard, Room 206, Bethesda, MD 20892 or call non-toll-free number 301-435-0805 or email your request, including your address to: beckl@mail.nih.gov. Formal requests for additional plans and instruments must be requested in writing.

Proposed Collection: Evaluation of the Science Education Partnership Award (SEPA) Program, 0925—NEW, the Office of Science Education/SEPA, within the Office of the Research Infrastructure Programs (ORIP), an office of the Division of Program Coordination, Planning, and Strategic Initiatives (DPCPSI), within the Office of the Director (OD) at the National Institutes of Health (NIH).

Need and Use of Information Collection: The Science Education Partnership Award Program is a program in the Office of the Research Infrastructure Programs within the Office of Research Infrastructure Program of the Division of Program Coordination, Planning, and Strategic Initiatives. The program provides 5-year grants for PK-12 educational projects, science centers, and museum exhibits to increase students' interest in pursuing science-related careers, deliver topical and interactive information about NIH-funded medical research, and cultivate an understanding about healthy living habits among the general public. SEPA is undertaking an evaluation to examine the extent to which SEPA grants awarded from 2004 through 2014 have met goals related to project structure, partnership formation, and evaluation quality. The evaluation will utilize archival grant project data (e.g., SEPA solicitations, project proposals, annual and final reports, and summative evaluations). The evaluation will also collect new data to (1) determine the extent to which the SEPA portfolio is aligned with the program's overall goals; (2) assess how the SEPA Program has contributed to the creation and/or enrichment of beneficial productive partnerships; and (3) determine the extent to which the SEPA Program is generating a rigorous evidence-based system that provides high-quality evaluations to inform the knowledge base. The goal of this process evaluation is to provide SEPA, program staff, the NIH, and other interested stakeholders with information about how the program is operating, the extent to which projects address the program's multiple goals, and the extent to which project-level evaluations are informing and enhancing the quality of work in the field.

OMB approval is requested for one year. There are no costs to respondents other than their time. The total estimated annualized burden hours are 523.

Estimated of Annualized Burden Hours
Type of respondent | Data collection type | Number of respondents | Number of responses per respondent | Average burden per response (in hours) | Total annual burden hours
PI | Web survey | 156 | 1 | 30/60 | 78
| Telephone script to schedule interview | 34 | 1 | 5/60 | 3
| Telephone interview | 34 | 1 | 1 | 34
| Telephone script to schedule site visit | 34 | 1 | 5/60 | 3
| Site visit interview | 6 | 1 | 90/60 | 9
Project partner | Web survey | 312 | 1 | 30/60 | 156
| Telephone script to schedule interview | 74 | 1 | 5/60 | 7
| Telephone interview | 74 | 1 | 1 | 74
| Telephone script to schedule site visit | 74 | 1 | 5/60 | 7
| Site visit interview | 6 | 1 | 90/60 | 9
Other key staff | Telephone script to schedule site visit | 90 | 1 | 5/60 | 8
| Site visit interview | 90 | 1 | 90/60 | 135
Total |  | 558 |  |  | 523

Dated: September 24, 2015.
Lawrence A. Tabak,
Deputy Director, National Institutes of Health.

[FR Doc. 2015-25003 Filed 9-30-15; 8:45 am]

BILLING CODE 4140-01-P